DEPARTMENT OF THE INTERIOR

Bureau of Reclamation

Auburn State Recreation Area General Plan/Interim Resource Management Plan

AGENCY: Bureau of Reclamation, Interior.

ACTION: Notice of intent to prepare an Environmental Impact Statement/Environmental Impact Report (EIS/EIR) and notice of public scoping meeting.

SUMMARY: Pursuant to the National Environmental Policy Act (NEPA) and the California Environmental Quality Act (CEQA), the Bureau of Reclamation (Reclamation) and the California Department of Parks and Recreation (DPR) propose to prepare a joint EIS/EIR for the Auburn State Recreation Area General Plan/Interim Resource Management Plan (GP/IRMP). Reclamation is the Lead Federal Agency for NEPA and DPR is the Lead State Agency for CEQA. A public scoping meeting to solicit public input on the alternatives, concerns, and issues to be addressed in the GP/IRMP and EIS/EIR has been scheduled.

DATES: A public scoping meeting will be held on June 15, 2006 from 6 to 9 p.m. in Auburn, California.

Requests for reasonable accommodation should be received no later than 1 week before the meeting (see Supplementary Information).

Send written comments on the scope of the EIS/EIR by the close of business on July 31, 2006.

ADDRESSES: The public scoping meeting will be held at the Canyon View Center, Foothills Room, 471 Maidu Drive, Auburn, CA 95603.

Written comments on the scope of the EIS/EIR should be sent to: Mr. Jim Micheaels, Park Planner, DPR, 7806 Folsom Auburn Road, Folsom, CA 95630.

FOR FURTHER INFORMATION CONTACT: Laura Caballero, Environmental Specialist, Reclamation, 7794 Folsom Dam Road, Folsom, CA 95630; (916) 989-7172; or Jim Micheaels, Park Planner, DPR, 7806 Folsom-Auburn Road, Folsom, CA 95630, (916) 988-0513.

SUPPLEMENTARY INFORMATION: An Auburn State Recreation Area (SRA) General Plan (GP) was completed in 1978 (a combined General Plan with Folsom Lake SRA). This plan presumed construction of Auburn Dam; however, Auburn Dam construction did not occur within the time frame identified by the 1978 GP. Because construction of Auburn Dam was not completed within the time frames anticipated, an IRMP was prepared in 1992 to address current resources, conditions, and uses. Auburn Dam continues to be a federally recognized project.

The current 1992 IRMP lacks sufficient detail and analysis of the natural resources and existing visitor uses for contemporary management of Auburn SRA as a river-based resource. An updated and more comprehensive Canyon/River based IRMP is needed until Congress determines the future of Auburn Dam and the related land and water resources.

Key GP/IRMP Issues for Analysis

(1) Public health and safety;

(2) Resource protection and conservation;

(3) Conflicts between user groups;

(4) Wild land fire and fuel management plans;

(5) Encroachment and trespassing;

(6) Emerging and growing recreation uses.

Comments presented at the public meeting will be used to further analyze environmental issues that should be addressed in the GP/IRMP and accompanying EIS/EIR. Individual scoping meetings can be arranged with responsible/cooperating agencies and with special interest groups upon request.

Persons needing reasonable accommodations in order to attend and participate in the public meeting should contact Ms. Laura Caballero, at 916-989-7172, as soon as possible. In order to allow sufficient time to process requests, please call no later than 1 week before the meeting. Information regarding this proposed action is available in alternative formats upon request.

Letters describing the proposed action and soliciting comments will be sent to the appropriate Federal, State, and local agencies, and to private organizations and citizens who have previously expressed or are known to have interest in this proposal to ensure that the full range of issues related to this proposed action are addressed and all significant issues identified, comments and suggestions are invited from all interested parties and stakeholders.

Our practice is to make comments, including names and home addresses of respondents, available for public review. Individual respondents may request that we withhold their home addresses from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Frank Michny,
Regional Environmental Officer, Mid-Pacific Region.

[FR Doc. E6-8460 Filed 5-31-06; 8:45 am]

BILLING CODE 4310-MN-P